DEPARTMENT OF ENERGY

Federal Energy Regulatory Commission

[Docket No. RP01-382-003]

Northern Natural Gas Company; Notice of Tariff Filing

August 29, 2001.

Take notice that Northern Natural Gas Company (Northern) on August 15, 2001 tendered for filing to become part of Northern's FERC Gas Tariff, Fifth Revised Volume No.1, the following tariff sheets to be effective November 1, 2001:

Fifth Revised Sheet No. 263H

Fourth Revised Sheet No. 263H.1

Tariff Sheet Nos. 263H and 263H.1 reflect the Sourcers' flow obligation after the Appendix B customers' election to source or buyout based on Northern's April 19, 2001 filing to replace both its fixed Carlton Premium and its fixed Carlton Surcharge with a mechanism to calculate the Premium and surcharge annually.

Northern states that copies of the filing were served upon Northern's customers and interested State Commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22227 Filed 9-4-01; 8:45 am]

BILLING CODE 6717-01-P